DEPARTMENT OF HOMELAND SECURITY

National Initiative for Cybersecurity Careers and Studies Cybersecurity Training and Education Catalog Collection

AGENCY: National Protection and Programs Directorate (NPPD), Department of Homeland Security (DHS).

ACTION: 30-Day notice and request for comments; Revised Information Collection Request: 1670-0030.

SUMMARY: The DHS NPPD Office of Cybersecurity & Communications (CS&C), Cybersecurity Education & Awareness Office (CE&A), National Initiative for Cybersecurity Careers and Studies (NICCS) will submit the following Information Collection Request (ICR) to the Office of Management and Budget (OMB) for review and clearance in accordance with the Paperwork Reduction Act of 1995. NPPD previously published this ICR in the Federal Register on Monday, November 20, 2017 at 82 FR 55110 for a 60-day public comment period. No comments were received by NPPD. The purpose of this notice is to allow an additional 30 days for public comments.

DATES: Comments are encouraged and will be accepted until March 29, 2018.

ADDRESSES: Interested persons are invited to submit written comments on the proposed information collection to the Office of Information and Regulatory Affairs, OMB. Comments should be addressed to OMB Desk Officer, Department of Homeland Security and sent via electronic mail to dhsdeskofficer@omb.eop.gov. All submissions must include the words “Department of Homeland Security” and the OMB Control Number 1670-0030.

Comments submitted in response to this notice may be made available to the public through relevant websites. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: For specific questions related to collection activities, please contact Shannon Nguyen at 703-705-6246 or at niccs@hq.dhs.gov.

SUPPLEMENTARY INFORMATION: The cyber-specific authorities to receive information support the Department's general authority to receive information from any federal or non-federal entity in support of the mission responsibilities of the Department. Section 201 of the Homeland Security Act of 2002 authorizes the Secretary “[t]o access, receive, and analyze law enforcement information, intelligence information, and other information from agencies of the Federal Government, State and local government agencies (including law enforcement agencies), and private sector entities, and to integrate such information, in support of the mission responsibilities of the Department.” Sec. 201, Public Law 107-296; 6 U.S.C. 121(d)(1); see also 6 U.S.C. 121(d)(12). The following authorities also permit DHS to collect this information: Federal Information Security Management Act of 2002 (FISMA), 44 U.S.C. 3546; Presidential Policy Directive (PPD)-21, Critical Infrastructure Identification, Prioritization, and Protection (2003); and National Security Presidential Directive (NSPD)-54/Homeland Security Policy Directive (HSPD)-23, Cybersecurity Policy (2009).

The NICCS Portal is a national online resource for cybersecurity awareness, education, talent management, and professional development and training. NICCS Portal is an implementation tool for the National Initiative for Cybersecurity Education (NICE). Its mission is to provide comprehensive cybersecurity resources to the public.

To promote cybersecurity education, and to provide a comprehensive resource for the Nation, NICE developed the Cybersecurity Training and Education Catalog. The Cybersecurity Training and Education Catalog will be hosted on the NICCS Portal. Training course and certification information will be included in the Training/Workforce Development Catalog.

Any information received from the public in support of the NICCS Portal and Cybersecurity Training and Education Catalog is completely voluntary. Organizations and individuals who do not provide information can still utilize the NICCS Portal and Cybersecurity Training and Education Catalog without restriction or penalty. An organization or individual who wants their information removed from the NICCS Portal and/or Cybersecurity Training and Education Catalog can email the NICCS Supervisory Office.

CE&A uses the collected information from the NICCS Cybersecurity Training Course Form and the NICCS Cybersecurity Certification Form and displays it on a publicly accessible website called the National Initiative for Cybersecurity Careers and Studies (NICCS) Portal (http://niccs.us-cert.gov/). Collected information from these two forms will be included in the Cybersecurity Training and Education Catalog that is hosted on the NICCS Portal.

The DHS CE&A NICCS Supervisory Office will use information collected from the NICCS Vendor Vetting Form to primarily manage communications with the training/workforce development providers; this collected information will not be shared with the public and is intended for internal use only. Additionally, this information will be used to validate training providers before uploading their training and certification information to the Training Catalog.

The DHS CE&A NICCS Supervisory Office will use information collected from the NICCS Mapping Tool Form to provide an end user with information of how their position or job title aligns to the new Cybersecurity Framework 1.1. This collected information will not be shared with the public and is intended for internal use only.

The information will be collected via fully electronic web forms or partially electronic via email. Collection will be coordinated between the public and DHS CE&A via email (niccs@hq.dhs.gov).

The revisions to the collection include: The addition of the NICCS Mapping Tool, the updates to the Training Course Form, Changing a form name from Vetting Criteria Form to Vendor Vetting Form, Course Certification Form has been updated to be collected via email as a CSV file.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Title of Collection: National Initiative for Cybersecurity Careers and Studies Cybersecurity Training and Education Catalog Collection.

OMB Control Number: 1670-0030.

Frequency: Occassionally.

Affected Public: Educational Institutes (Privately Owned, and State/Local Government Owned).

Number of Respondents: 1,350 respondents.

Estimated Time per Respondent: 30 minutes.

Total Burden Hours: 1,688 annual burden hours.

Total Burden Cost: $0.

Total Recordkeeping Burden: $0.

David Epperson,
Chief Information Officer.

[FR Doc. 2018-03948 Filed 2-26-18; 8:45 am]

BILLING CODE 9110-9P-P